DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to the identifying information of one or more persons currently included in OFAC's Specially Designated Nationals and Blocked Persons List (SDN List). OFAC is also publishing the names of one or more persons whose property and interests in property have been unblocked and who have been removed from the SDN List. OFAC is also publishing the name of one person who is no longer subject to the prohibitions set forth in Section 1(b) of Executive Order 13608 and who has been removed from the Foreign Sanctions Evaders List.

DATES: See SUPPLEMENTARY INFORMATION section for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On November 24, 2025, OFAC determined that the property and interests in property subject to U.S. jurisdiction of the following persons are unblocked and they have been removed from the SDN List.

1. ATTIKOURIS, Kyriakos, Cyprus; DOB 09 May 1980; POB Limassol, Cyprus; nationality Cyprus; Gender Male; Secondary sanctions risk: See Section 11 of Executive Order 14024.; National ID No. 813057 (Cyprus) (individual) [RUSSIA-EO14024] (Linked To: WINDFEL PROPERTIES LIMITED; Linked To: SAVOLER DEVELOPMENT LIMITED; Linked To: MIRAMONTE INVESTMENTS LIMITED).

2. GEORGIOU, Marilena, Cyprus; DOB 31 Oct 1987; POB Cyprus; nationality Cyprus; Gender Female; Secondary sanctions risk: See Section 11 of Executive Order 14024. (individual) [RUSSIA-EO14024] (Linked To: ALMENOR HOLDINGS LIMITED).

3. GIANNAKOU, Kostas (a.k.a. YIANNAKOU, Costas), Cyprus; DOB 24 Jul 1970; Gender Male; Secondary sanctions risk: See Section 11 of Executive Order 14024. (individual) [RUSSIA-EO14024] (Linked To: ALMENOR HOLDINGS LIMITED).

4. SERGHIDES, Demetrios (a.k.a. SERGHIDES, Demetris; a.k.a. SERGIDIS, Dimitrios), 29 Kosta Pitsillide, Limassol, Cyprus; 35 Avenue de Papalins, Les Sporades, Flat 914, Monaco 98000, Monaco; 6ET N.600 8, Villa Rose, 2 Lacets Saint Leon, Monaco 98000, Monaco; Italy; DOB 18 Dec 1968; POB Limassol, Cyprus; nationality Cyprus; Gender Male; Secondary sanctions risk: See Section 11 of Executive Order 14024.; Passport K00162863 (Cyprus) issued 18 Feb 2014 expires 18 Feb 2024; National ID No. 670766 (Cyprus); Tax ID No. SRGDTR68T18Z211K (Italy) (individual) [RUSSIA-EO14024] (Linked To: USMANOV, Alisher Burhanovich).

5. VAKANAS, Antonis Kyriakou, Cyprus; DOB 20 Jun 1977; nationality United Kingdom; citizen United Kingdom; Gender Male; Secondary sanctions risk: See Section 11 of Executive Order 14024. (individual) [RUSSIA-EO14024] (Linked To: WINDFEL PROPERTIES LIMITED; Linked To: SAVOLER DEVELOPMENT LIMITED; Linked To: MIRAMONTE INVESTMENTS LIMITED)

6. HIGHTRAIL LTD, Louloupis Court, 6th Floor, Christodoulou Chatzipaylou 205, Limassol 3036, Cyprus; Secondary sanctions risk: See Section 11 of Executive Order 14024.; Organization Established Date 24 Nov 2021; Registration Number C428257 (Cyprus) [RUSSIA-EO14024] (Linked To: SERGHIDES, Demetrios).

7. OMNIA ANTIBES, Centre d Affaires Le Forum, 33 Boulevard du General Leclerc, Beausoleil 06240, France; Secondary sanctions risk: See Section 11 of Executive Order 14024.; Organization Established Date 25 Jun 2018; Tax ID No. 840939516 (France); Identification Number 840939516-00034 (France) [RUSSIA-EO14024] (Linked To: SERGHIDES, Demetrios).

8. OMNIA SERVICES CYPRUS LTD, Louloupis Court, Floor No: 6, Christodoylou Chatzipaylou 205, Limassol 3036, Cyprus; Secondary sanctions risk: See Section 11 of Executive Order 14024.; Organization Established Date 16 Jul 2018; Registration Number C386392 (Cyprus) [RUSSIA-EO14024] (Linked To: SERGHIDES, Demetrios).

On December 9, 2025, OFAC determined that the property and interests in property subject to U.S. jurisdiction of the following persons are unblocked and they have been removed from the SDN List.

1. ASTRAKHAN, Kirill Aleksandrovich (a.k.a. ASTRAKHAN, Kirill (Cyrillic: АСТРАХАНЬ, Кирилл)), Moscow, Russia; DOB 17 Nov 1987; POB Donetsk, Ukraine; nationality Russia; Gender Male; Secondary sanctions risk: See Section 11 of Executive Order 14024.; Passport 721242410 (Russia) (individual) [RUSSIA-EO14024].

2. SOBOLEV, Nikita Aleksandrovich, Malta; DOB 07 Jun 1986; nationality Russia; Gender Male; Secondary sanctions risk: See Section 11 of Executive Order 14024.; Passport 550193782 (Russia); National ID No. 238667A (Malta) (individual) [RUSSIA-EO14024] (Linked To: MALBERG LIMITED).

On December 11, 2025, OFAC updated the SDN List entries for the following persons, whose property and interests in property subject to U.S. jurisdiction continue to be blocked.

1. RAHIMIAN, Pezhman (a.k.a. RAHIMIAN, Pejman), Iran; POB Esfahan, Esfahan Province, Iran; nationality Iran; Additional Sanctions Information—Subject to Secondary Sanctions; Gender Male; National ID No. 1285917855 (Iran) (individual) [NPWMD] [IFSR] (Linked To: ATOMIC ENERGY ORGANIZATION OF IRAN).—TO—RAHIMIAN, Pezhman (a.k.a. RAHIMIAN, Pejman), Iran; DOB 29 Aug 1977; POB Esfahan, Esfahan Province, Iran; nationality Iran; Additional Sanctions Information—Subject to Secondary Sanctions; Gender Male; National ID No. 1285917855 (Iran) (individual) [NPWMD] [IFSR] (Linked To: ATOMIC ENERGY ORGANIZATION OF IRAN).

2. ADVANCED INFORMATION AND COMMUNICATION TECHNOLOGY CENTER (a.k.a. AICTC), No. 5, Golestan Alley, Shahid Ghasemi St., Sharif University of Technology, Tehran, Iran; Website www.aictc.ir [NPWMD] [IFSR].—TO—ADVANCED INFORMATION AND COMMUNICATION TECHNOLOGY CENTER (a.k.a. ADVANCED INFORMATION AND COMMUNICATION TECHNOLOGY RESEARCH INSTITUTE; a.k.a. AICTC; a.k.a. “AICT”), No. 5, Golestan Alley, Shahid Ghasemi St., Sharif University of Technology, Tehran, Iran; Website www.aictc.ir; Additional Sanctions Information—Subject to Secondary Sanctions [NPWMD] [IFSR].

On December 12, 2025, OFAC determined that the property and interests in property subject to U.S. jurisdiction of the following persons are unblocked and they have been removed from the SDN List.

1. DE MORAES, Alexandre, Brazil; DOB 13 Dec 1968; POB Sao Paulo, Brazil; nationality Brazil; Gender Male; Passport DC000887 (Brazil); National ID No. 142262109 (Brazil) (individual) [GLOMAG].

2. LEX—INSTITUTO DE ESTUDOS JURIDICOS LTDA, Rua Campos Bicudo, 98, Floor 9, Suite 1, Room 3, Jardim Europa, Sao Paulo 04536-010, Brazil; Organization Established Date 01 Jun 2000; Organization Type: Activities of holding companies; Registration Number 03850784000135 (Brazil) [GLOMAG] (Linked To: DE MORAES, Alexandre).

3. BARCI DE MORAES, Viviane (a.k.a. BARCI, Viviane), Brazil; DOB 16 Jan 1969; POB Sao Paulo, Brazil; nationality Brazil; Gender Female; National ID No. 208841180 (Brazil); Diplomatic Passport DC000886 (Brazil) (individual) [GLOMAG] (Linked To: LEX—INSTITUTO DE ESTUDOS JURIDICOS LTDA).

On December 18, 2025, OFAC determined that the property and interests in property subject to U.S. jurisdiction of the following persons are unblocked and they have been removed from the SDN List.

1. BUGAYENKO, Dmitry Vitalyevich (a.k.a. BUGAENKO, Dmitrii Vitalyevich; a.k.a. BUGAENKO, Dmitry), 6/1 Michurinsky Prospekt, 187-188, Moscow 119295, Russia; DOB 15 Dec 1966; POB Moscow, Russia; nationality Russia; alt. nationality Cyprus; Gender Male; Secondary sanctions risk: See Section 11 of Executive Order 14024.; Passport K00148307 (Cyprus) issued 26 Sep 2013 expires 26 Sep 2023; National ID No. 1274836 (Cyprus) (individual) [RUSSIA-EO14024].

2. DREMOVA, Evgenia, Finland; DOB 26 Aug 1977; nationality Finland; Gender Female; Secondary sanctions risk: See Section 11 of Executive Order 14024.; Identification Number 260877 (Finland) (individual) [RUSSIA-EO14024].

3. 365 DAYS FREIGHT SERVICES FZCO, Warehouse No. F24, Dubai Airport Free Zone, PO Box 99083, Dubai, United Arab Emirates; Secondary sanctions risk: See Section 11 of Executive Order 14024.; License 1303 (United Arab Emirates); Economic Register Number (CBLS) 11436269 (United Arab Emirates) [RUSSIA-EO14024].

4. CPS PROSES KONTROL URUNLERI SANAYI VE TICARET ANONIM SIRKETI, Carsi Yapi Sitesi G Blok, No: 10G/5 Sanayi Mahallesi, Kocaeli, Turkey; Secondary sanctions risk: See Section 11 of Executive Order 14024.; Organization Established Date 22 Feb 2022; Tax ID No. 2150603096 (Turkey); Business Registration Number 32873 (Turkey) [RUSSIA-EO14024].

5. ETASIS ELEKTRONIK TARTI ALETLERI VE SISTEMLERI SANAYI VE TICARET ANONIM SIRKETI (a.k.a. ETASIS A.S.), 2001 Cadde No 36, 75, Yil Mahallesi, Odunpazari 26250, Turkey; Secondary sanctions risk: See Section 11 of Executive Order 14024.; Tax ID No. 7838098822 (Turkey); Registration Number 26355 (Turkey) [RUSSIA-EO14024].

6. HADLERCO LIMITED, Marilena Building, Flat No 101, No 1, Prigkipissas Zinas Kanther 12, Nicosia 1065, Cyprus; Secondary sanctions risk: See Section 11 of Executive Order 14024.; Organization Established Date 11 Aug 2000; Tax ID No. 10113889S (Cyprus); Legal Entity Number 213800MRUA23SZCWPO15; Registration Number C113889 (Cyprus) [RUSSIA-EO14024] (Linked To: BUGAYENKO, Dmitry Vitalyevich).

7. HI-TECH KONEISTO INTERNATIONAL OY, Hirsalantie 11, Jorvas 02420, Finland; Secondary sanctions risk: See Section 11 of Executive Order 14024.; Organization Established Date 21 Jul 2021; V.A.T. Number FI32114731 (Finland); Identification Number 3211473-1 (Finland) [RUSSIA-EO14024] (Linked To: DREMOVA, Evgenia).

8. VELES INTERNATIONAL LIMITED, Globe House, Floor No. 5, 23 Kennedy, Nicosia 1075, Cyprus; Secondary sanctions risk: See Section 11 of Executive Order 14024.; Organization Established Date 21 Sep 2005; Tax ID No. 10165706H (Cyprus); Identification Number M9DR4T.99999.SL.196 (Cyprus); Legal Entity Number 213800HFBG8GID98ID84; Registration Number C165706 (Cyprus) [RUSSIA-EO14024] (Linked To: BUGAYENKO, Dmitry Vitalyevich).

On December 18, 2025, OFAC determined that circumstances no longer warrant the inclusion of the person identified below on the Foreign Sanctions Evaders List. Therefore, the person identified below is no longer subject to the prohibitions set forth in Section 1(b) of Executive Order 13608 of May 1, 2012, “Prohibiting Certain Transactions With and Suspending Entry Into the United States of Foreign Sanctions Evaders With Respect to Iran and Syria,” and has been removed from the Foreign Sanctions Evaders List.

1. KAYAKIRAN, Evren, Turkey; DOB 08 Feb 1980; citizen Turkey; Gender Male; Passport U00242309 (Turkey) (individual) [FSE-IR].

(Authority: 31 CFR chapter V.)

Bradley T. Smith,
Director, Office of Foreign Assets Control.

[FR Doc. 2025-23587 Filed 12-19-25; 8:45 am]

BILLING CODE 4810-AL-P